NUCLEAR REGULATORY COMMISSION

[NRC-2010-0003]

Availability of NRC Open Government Web Site

AGENCY: Nuclear Regulatory Commission.

ACTION: Notice of Availability of Open Government Web site for Online Public Comments.

SUMMARY: This notice, which follows up on a January 11, 2010 (75 FR 1418), Federal Register notice, informs the public that the Nuclear Regulatory Commission's (NRC) Open Government Web site (http://www.nrc.gov/open) will be available by February 6, 2010, and directs that, after February 10, 2010, any public comments regarding NRC publication of high-value data sets or the NRC Open Government Plan should be submitted online at this Open Government Web site rather than through mail, fax, or the http://www.regulations.gov Web site.

FOR FURTHER INFORMATION CONTACT: James B. Schaeffer, Deputy Director, Office of Information Services, (301) 415-7330, James.Schaeffer@nrc.gov.

SUPPLEMENTAL INFORMATION: On January 11, 2010, the Federal Register published an NRC notice (75 FR 1418) soliciting public comment on the NRC's implementation of the Office of Management and Budget's December 8, 2009, Open Government Directive. Specifically, the Federal Register notice solicited comments on (1) which high-value data sets NRC should publish on the data.gov Web site and (2) the Open Government Plan that the NRC is in the process of developing. The NRC requested that comments on publication of high-value data sets be submitted as soon as possible, in light of the NRC's interest in publishing high-value data sets by date set forth in the Open Government Directive (January 22, 2010). But the NRC also stated that it may decide to publish additional data sets after January 22, 2010, and so even comments submitted too late to be considered with respect to this initial effort to publish data sets were nonetheless welcome. The NRC also requested that any comments on the Open Government Plan be submitted by February 10, 2010, and provided options for submitting comments by mail, fax, or at http://www.regulations.gov, but also stated that the forthcoming NRC Open Government Web site would provide additional opportunities for commenting on the Open Government Plan.

As noted in the January 11, 2010, Federal Register notice, and consistent with the Open Government Directive, the NRC's Open Government Web page (http://www.nrc.gov/open) will be available by February 6, 2010. This Web site will provide convenient access at a single location to NRC open government information, including any public comments the NRC has received regarding publication of high-value data sets or the NRC Open Government Plan. The Open Government Web site will allow for submission of online comments on publication of high-value data sets as well as the NRC's Open Government Plan, and will also feature other capabilities and tools for providing input and sharing ideas.

Accordingly, once the comment period announced in the January 11, 2010, Federal Register notice closes on February 10, 2010, members of the public will still be able to submit comments on NRC high-value data set publication and the NRC Open Government Plan by using the NRC's Open Government Web site. Because the NRC plans to include on this Open Government Web site all public comments regarding NRC implementation of the Open Government Directive (including any comments submitted by mail, fax, or through the http://www.regulations.gov Web site in accordance with the January 11, 2010, Federal Register notice), the NRC requests that, after February 10, 2010, any comments on NRC publication of high-value data sets or the NRC's Open Government Plan be submitted online at http://www.nrc.gov/open, rather than by using mail, fax, or regulations.gov.

Because any comments submitted on the NRC's Open Government Web site will not be edited to remove any identifying or contact information, the NRC cautions you against including any information in your submission that you do not want to be publicly disclosed.

The NRC requests that any party soliciting or aggregating comments received from other persons for submission to the NRC inform those persons that the NRC will not edit their comments to remove any identifying or contact information and, therefore, they should not include any information in their comments that they do not want publicly disclosed.

Dated at Rockville, Maryland, this 29th day of January 2010.
For the Nuclear Regulatory Commission.
R. William Borchardt,
Executive Director for Operations.

[FR Doc. 2010-2533 Filed 2-4-10; 8:45 am]

BILLING CODE 7590-01-P